DEPARTMENT OF LABOR

Employment and Training Administration

[TA-W-65,056]

B/E Aerospace, Inc., Marysville, WA; Notice of Termination of Investigation

Pursuant to Section 221 of the Trade Act of 1974, as amended, an investigation was initiated on February 2, 2009 in response to a worker petition on behalf of workers at B/E Aerospace, Inc., Marysville, Washington.

The petitioners have requested that the petition be withdrawn. Consequently, the investigation has been terminated.

Signed at Washington, DC, this 23rd day of April 2009.
Richard Church,
Certifying Officer, Division of Trade Adjustment Assistance.

[FR Doc. E9-11848 Filed 5-20-09; 8:45 am]

BILLING CODE 4510-FN-P